POSTAL SERVICE

39 CFR Part 501

Authorization to Manufacture and Distribute Postage Meters

AGENCY: Postal Service.

ACTION: Final rule.

SUMMARY: Under 39 CFR 501.1, only manufacturers and distributors authorized by the Postal Service,(tm) may manufacture and/or distribute postage meters in the United States. This final rule provides that the Postal Service may revoke or suspend, wholly or in part, authorization to distribute postage meters if the authorized entity or its agent makes or distributes false or misleading statements about actions or proposed actions of the Postal Service regarding the postage meter program. In addition, minor editorial changes were made to correct references to sections of part 501 that were in error.

DATES: This rule is effective January 7, 2005.

FOR FURTHER INFORMATION CONTACT: Wayne Wilkerson, Manager of Postage Technology Management, at 703-292-3691 or by fax at 703-292-4073.

SUPPLEMENTARY INFORMATION: The Postal Service published a proposed rule in the Federal Register on November 20, 2003, to amend 39 CFR part 501, Authorization to Manufacture and Distribute Postage Meters. Comments on the proposed rule were due on or before December 20, 2003. We received no comments objecting to the proposed rule or requesting any changes. Therefore, the rule is adopted as final without any changes. The editorial changes to correct references to sections of part 501 necessitated by the redesignation of certain sections are as follows: In section 501.2(c), the reference to section 501.21 is corrected to 501.22. In section 501.4, the reference to section 501.23 is corrected to 501.24. In section 501.6(d), the reference to section 501.20(c) is corrected to section 501.6(c). In section 501.23(i), reference to section 501.26 is corrected to section 501.27. In section 501.24(b), the reference to section 501.26 is corrected to section 501.27 and the reference to section 501.25 is corrected to section 501.26. In section 501.27(e), the reference to section 501.23 is corrected to section 501.24. In section 501.30(a), the reference to section 501.22(b) is corrected to section 501.23(b).

List of Subjects in 39 CFR Part 501

Administrative practice and procedure, Postal Service.

For the reasons set out in this document, the Postal Service is amending 39 CFR part 501 as follows:

PART 501—AUTHORIZATION TO MANUFACTURE AND DISTRIBUTE POSTAGE METERS

1. The authority citation for part 501 continues to read as follows:

Authority: 5 U.S.C. 552(a); 39 U.S.C. 101, 401, 403, 404, 410, 2601, 2605; Inspector General Act of 1978, as amended (Pub. L. 95-452, as amended); 5 U.S.C. App. 3.

2. Revise current § 501.13 title to read “Reporting and Communications” and add new paragraph (e) to read as follows:

§ 501.13 Reporting and Communications.

* * * * *

(e) Authorized postage meter manufacturers and distributors, and their agents and employees, must not intentionally misrepresent to customers of the Postal Service decisions, actions, or proposed actions of the Postal Service respecting its regulation of postage meters in the United States. The Postal Service reserves the right to suspend and/or revoke the authorization to manufacture and/or distribute postage meters throughout the United States or in any part thereof under § 501.5 when the manufacturer, distributor, or agent or employee of either fails to comply with this requirement.

Neva Watson,
Attorney, Legislative.

[FR Doc. 05-279 Filed 1-6-05; 8:45 am]

BILLING CODE 7710-12-P